DEPARTMENT OF AGRICULTURE

Forest Service

Proposed New Recreation Fee Sites

AGENCY: Forest Service, Agriculture (USDA).

ACTION: Notice.

SUMMARY: The Medicine Bow-Routt National Forests and Thunder Basin National Grassland are proposing to establish multiple new recreation fee sites. Recreation fee revenues collected at the new recreation fee sites would be used for operation, maintenance, and improvement of the sites. An analysis of nearby recreation fee sites with similar amenities shows the recreation fees that would be charged at the new recreation fee sites are reasonable and typical of similar recreation fee sites in the area.

DATES: If approved, the new fees would be implemented no earlier than six months following the publication of this notice in the Federal Register.

ADDRESSES: Medicine Bow-Routt National Forests and Thunder Basin National Grassland, 2468 Jackson Street, Laramie, Wyoming 82070.

FOR FURTHER INFORMATION CONTACT: Kristi Murphy, Medicine Bow-Routt National Forests and Thunder Basin National Grassland, Recreation Program Manager, 307-745-2300 or sm.fs.mbrrecfees@usda.gov.

SUPPLEMENTARY INFORMATION: The Federal Lands Recreation Enhancement Act (16 U.S.C. 6803(b)) directs the Secretary of Agriculture to publish a six-month advance notice in the Federal Register of establishment of new recreation fee sites. In accordance with Forest Service Handbook 2309.13, chapter 30, the Forest Service will publish the proposed new recreation fees in local newspapers and other local publications for public comment. Most of the new recreation fee revenues would be spent where they are collected to enhance the visitor experience at the new recreation fee sites.

An expanded amenity recreation fee of $65 per night would be charged for the Esterbrook Group Campground. In addition, an expanded amenity recreation fee of $80 per night would be charged for rental of Blackhall Mountain Lookout, an expanded amenity recreation fee of $80 per night would be charged for rental of Hog Park Guard Station, an expanded amenity recreation fee of $80 per night would be charged for rental of Kennaday Peak Lookout, an expanded amenity recreation fee of $120 per night would be charged for rental of Summit Creek Guard Station, and an expanded amenity recreation fee of $150 per night would be charged for rental of Sandstone Crew Quarters. An expanded amenity recreation fee of $75 per group would be charged for the Brush Creek Pavilion group picnic site for groups of 50.

A standard amenity recreation fee of $5 per day per vehicle would be charged at Bush Creek, Dry Lake, Grizzly Creek, Libby Flats, Lincoln Gulch, Mad Creek, Miner's Cabin, Mirror Lake, Nautilus Rock, Pelton Creek, Rabbit Ears, Reynolds Hill, Six Mile, Slavonia, Tipple, West Lake Marie, and Woods Creek developed recreation sites. The Medicine Bow-Routt National Forest Day Use Pass and the America the Beautiful-the National Parks and Federal Recreational Lands Pass would be honored at these standard amenity recreation fee sites.

Recreation fee revenues collected at the new recreation fee sites would enhance recreation opportunities, improve customer service, and address maintenance needs. Reservations for the campgrounds, lookouts, and guard stations could be made online at www.recreation.gov or by calling 877-444-6777. Reservations would cost $8.00 per reservation.

Dated: September 29, 2023.
Jacqueline Emanuel,
Associate Deputy Chief, National Forest System.

[FR Doc. 2023-22173 Filed 10-4-23; 8:45 am]

BILLING CODE 3411-15-P